DEPARTMENT OF EDUCATION

Recognition of Accrediting Agencies, State Agencies for the Approval of Public Postsecondary Vocational Education, and State Agencies for the Approval of Nurse Education

AGENCY: National Advisory Committee on Institutional Quality and Integrity, Department of Education (The Advisory Committee).

What Is the Purpose of This Notice?

This notice invites written comments on the interim report and request for an expansion of scope of recognition submitted by The Association for Biblical Higher Education that will be reviewed at the Advisory Committee meeting to be held on December 17-19, 2007. The agency was not included in the list of accrediting agencies to be reviewed in the original notice inviting written comments published in the Federal Register on August 1, 2007.

Interim Report/Request for an Expansion of Scope of Recognition

1. The Association for Biblical Higher Education, Commission on Accreditation (Current scope of recognition: The accreditation and preaccreditation (“Candidate for Accreditation”) of Bible colleges and institutes in the United States offering undergraduate programs.) (Requested scope of recognition: The accreditation and preaccreditation of institutions of biblical higher education in the United States offering undergraduate programs through both campus-based instruction and distance education.)

Where Should I Submit My Comments?

Please submit your written comments by mail, fax, or e-mail no later than September 28, 2007 to Ms. Robin Greathouse, Accreditation and State Liaison. You may contact her at the U.S. Department of Education, Room 7126, MS 8509, 1990 K Street, NW., Washington, DC 20006, telephone: (202) 219-7011, fax: (202) 219-7005, or e-mail: Robin.Greathouse@ed.gov. Individuals who use a telecommunications device for the deaf (TDD) may call the Federal Information Relay Service at 1-800-877-8339.

What is the Authority for the Advisory Committee?

The National Advisory Committee on Institutional Quality and Integrity is established under section 114 of the Higher Education Act (HEA), as amended, 20 U.S.C. 1011c. One of the purposes of the Advisory Committee is to advise the Secretary of Education on the recognition of accrediting agencies and State approval agencies.

Will This Be My Only Opportunity to Submit Written Comments?

Yes, this notice announces the only opportunity you will have to submit written comments. However, another Federal Register notice will announce the meeting and invite individuals and/or groups to submit requests to make oral presentations before the Advisory Committee on the agencies that the Committee will review. That notice, however, does not offer an opportunity to submit written comment.

What Happens to the Comments That I Submit?

We will review your comments, in response to this notice, as part of our evaluation of The Association for Biblical Higher Education's compliance with the Secretary's Criteria for Recognition of Accrediting Agencies. The Criteria are regulations found in 34 CFR Part 602 (for accrediting agencies). We will also respond to your comments, as appropriate, in the staff analysis we present to the Advisory Committee at its December 2007 meeting. Therefore, in order for us to give full consideration to your comments, it is important that we receive them by September 28, 2007. In all instances, your comments regarding The Association for Biblical Higher Education must relate to the Criteria for the Recognition cited in the Secretary's letter that requested the interim report. You may obtain a copy of the Secretary's letter by calling (202) 219-7011.

What Happens to Comments Received After the Deadline?

We will treat any negative comments received after the deadline as complaints. If such comments, upon investigation, reveal that the accrediting agency is not acting in accordance with the Criteria for Recognition, we will take action either before or after the meeting, as appropriate. We will also notify the commentors of the disposition of those comments.

Where Can I Inspect Petitions and Third-Party Comments Before and After the Meeting?

All petitions and those third-party comments received in advance of the meeting will be available for public inspection at the U.S. Department of Education, Room 7126, MS 8509, 1990 K Street, NW., Washington, DC 20006, telephone (202) 219-7011 between the hours of 8 a.m. and 3 p.m., Monday through Friday, until November 19, 2007. They will be available again after the December 17-19, 2007 Advisory Committee meeting. An appointment must be made in advance of such inspection.

Authority: 5 U.S.C. Appendix 2.

Dated: September 5, 2007.
Diane Auer Jones,
Assistant Secretary, Office of Postsecondary Education.

[FR Doc. E7-17824 Filed 9-10-07; 8:45 am]

BILLING CODE 4000-01-P